DEPARTMENT OF ENERGY

Federal Energy Regulatory Commission

Combined Notice of Filings #1

Take notice that the Commission received the following electric rate filings:

Docket Numbers: ER17-1607-000; ER17-1608-000.

Applicants: Sunray Energy 2, LLC, Sunray Energy 3 LLC.

Description: Supplement to May 15, 2017 Sunray Energy 2, LLC, et al. tariff filings.

Filed Date: 6/21/17.

Accession Number: 20170621-5197.

Comments Due: 5 p.m. ET 7/12/17.

Docket Numbers: ER17-1666-001.

Applicants: Red Pine Wind Project, LLC.

Description: Tariff Amendment: Red Pine Wind Project Amendment to Pending Market-Based Rate Application Filing to be effective 7/23/2017.

Filed Date: 6/26/17.

Accession Number: 20170626-5167.

Comments Due: 5 p.m. ET 7/17/17.

Docket Numbers: ER17-1907-000.

Applicants: Midcontinent Independent System Operator, Inc., Otter Tail Power Company.

Description: § 205(d) Rate Filing: 2017-06-26_SA 3019 OTP-MPC FCA (T16-03) to be effective 6/27/2017.

Filed Date: 6/26/17.

Accession Number: 20170626-5153.

Comments Due: 5 p.m. ET 7/17/17.

Docket Numbers: ER17-1908-000.

Applicants: Blue Sky West, LLC.

Description: § 205(d) Rate Filing: Category 1 Status Northeast Region to be effective 6/27/2017.

Filed Date: 6/26/17.

Accession Number: 20170626-5157.

Comments Due: 5 p.m. ET 7/17/17.

Docket Numbers: ER17-1909-000.

Applicants: Bayshore Solar C, LLC.

Description: Baseline eTariff Filing: Bayshore Solar C, LLC MBR Tariff to be effective 8/26/2017.

Filed Date: 6/26/17.

Accession Number: 20170626-5165.

Comments Due: 5 p.m. ET 7/17/17.

Docket Numbers: ER17-1910-000.

Applicants: Evergreen Wind Power II, LLC.

Description: § 205(d) Rate Filing: Category 1 Seller Status Northeast Region to be effective 6/27/2017.

Filed Date: 6/26/17.

Accession Number: 20170626-5169.

Comments Due: 5 p.m. ET 7/17/17.

Docket Numbers: ER17-1911-000.

Applicants: Sundevil Power Holdings, LLC.

Description: Tariff Cancellation: Cancellation of Market Based Rate Tariff to be effective 6/28/2017.

Filed Date: 6/27/17.

Accession Number: 20170627-5045.

Comments Due: 5 p.m. ET 7/18/17.

Docket Numbers: ER17-1912-000.

Applicants: Southwest Power Pool, Inc.

Description: § 205(d) Rate Filing: 1266R7 Kansas Municipal Energy Agency NITSA and NOA to be effective 6/1/2017.

Filed Date: 6/27/17.

Accession Number: 20170627-5053.

Comments Due: 5 p.m. ET 7/18/17.

Docket Numbers: ER17-1913-000.

Applicants: Entergy Nuclear FitzPatrick, LLC.

Description: Tariff Cancellation: ENF Notice of Cancellation of Market-Based Rate Tariff to be effective 8/28/2017.

Filed Date: 6/27/17.

Accession Number: 20170627-5070.

Comments Due: 5 p.m. ET 7/18/17.

Docket Numbers: ER17-1914-000.

Applicants: Tucson Electric Power Company.

Description: § 205(d) Rate Filing: Transmission Service Agreement Nos. 381 and 389 to be effective 5/28/2017.

Filed Date: 6/27/17.

Accession Number: 20170627-5080.

Comments Due: 5 p.m. ET 7/18/17.

Docket Numbers: ER17-1915-000.

Applicants: NSTAR Electric Company.

Description: § 205(d) Rate Filing: Design and Engineering Agreement with Essential Power Newington, LLC to be effective 8/26/2017.

Filed Date: 6/27/17.

Accession Number: 20170627-5095.

Comments Due: 5 p.m. ET 7/18/17.

Take notice that the Commission received the following electric reliability filings:

Docket Numbers: RR17-6-000.

Applicants: North American Electric Reliability Corporation.

Description: Petition of the North American Electric Reliability Corporation for Approval of Proposed Revisions to the Rules of Procedure.

Filed Date: 6/26/17.

Accession Number: 20170626-5171.

Comments Due: 5 p.m. ET 7/17/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 27, 2017.
Nathaniel J. Davis, Sr.,
Deputy Secretary.

[FR Doc. 2017-13968 Filed 6-30-17; 8:45 am]

BILLING CODE 6717-01-P